JUDICIAL CONFERENCE OF THE UNITED STATES

Adjustment of Certain Dollar Amounts in the Bankruptcy Code

AGENCY: Judicial Conference of the United States.

ACTION: Notice of adjusted dollar amounts.

SUMMARY: Pursuant to the United States Code, certain dollar amounts are adjusted to reflect the change in the Consumer Price Index for All Urban Consumers for the most recent 3-year period ending immediately before January 1, 2022.

DATES: The dollar amounts are adjusted on April 1, 2022.

FOR FURTHER INFORMATION CONTACT: Gary D. Streeting, Senior Attorney, Judicial Programs Division, Administrative Office of the United States Courts, Thurgood Marshall Federal Judiciary Building, One Columbus Circle NE, Room 4-122, Washington, DC 20544, Telephone (202) 502-1800, or by email at Judicial_Services_Office@ao.uscourts.gov.

SUPPLEMENTARY INFORMATION: Section 104 of title 11, United States Code, provides the mechanism for an automatic three-year adjustment of dollar amounts in certain sections of titles 11 and 28. Notice is hereby given, pursuant to 11 U.S.C. 104(b), that the next such adjustment will occur on April 1, 2022. Effective on that date, the dollar amounts in effect under sections 101(3), 101(18), 101(19A), 101(51D), 109(e), 303(b), 507(a), 522(d), 522(f)(3) and 522(f)(4), 522(n), 522(p), 522(q), 523(a)(2)(C), 541(b), 547(c)(9), 707(b), 1322(d), 1325(b), and 1326(b)(3) of title 11, and section 1409(b) of title 28, United States Code, are adjusted as set forth in the chart below to reflect the change in the Consumer Price Index for All Urban Consumers, published by the Department of Labor, for the 3-year period ending immediately before January 1, 2022, rounded to the nearest $25. This adjustment does not apply with respect to cases commenced before April 1, 2022. Seven Official Bankruptcy Forms (106C, 107, 122A-2, 122C-2, 201, 207, and 410) and two Director's Forms (2000 and 2830) will also be amended to reflect these adjusted dollar amounts.

(Authority: 11 U.S.C. 104.)

Dated: January 31, 2022.
Gary D. Streeting,
Senior Attorney, Judicial Programs Division.

Affected sections of Title 28 U.S.C. and the bankruptcy code | Dollar amount to be adjusted | New (adjusted) dollar amount ¹
28 U.S.C.
Section 1409(b)—a trustee may commence a proceeding arising in or related to a case to recover:
(1)—money judgment of or property worth less than | $1,375 | $1,525.
(2)—a consumer debt less than | $20,450 | $22,700.
(3)—a non-consumer debt against a non-insider less than | $25,000 | $27,750.
11 U.S.C.
Section 101(3)—definition of assisted person | $204,425 | $226,850.
Section 101(18)—definition of family farmer | $10,000,000 (each time it appears) | $11,097,350 (each time it appears).
Section 101(19A)—definition of family fisherman | $2,044,225 (each time it appears) | $2,268,550 (each time it appears).
Section 101(51D)—definition of small business debtor | $2,725,625 (each time it appears) | $3,024,725 (each time it appears).
Section 109(e)—debt limits for individual filing bankruptcy under chapter 13 | $419,275 (each time it appears) $1,257,850 (each time it appears) | $465,275 (each time it appears). $1,395,875 (each time it appears).
Section 303(b)—minimum aggregate claims needed for the commencement of an involuntary chapter 7 or 11 petition | $16,750 (each time it appears) | $18,600 (each time it appears).
Section 507(a)—priority expenses and claims:
(1)—in paragraph (4) | $13,650 | $15,150.
(2)—in paragraph (5)(B)(i) | $13,650 | $15,150.
(3)—in paragraph (6) | $6,725 | $7,475.
(4)—in paragraph (7) | $3,025 | $3,350.
Section 522(d)—value of property exemptions allowed to the debtor:
(1)—in paragraph (1) | $25,150 | $27,900.
(2)—in paragraph (2) | $4,000 | $4,450.
(3)—in paragraph (3) | $625 $13,400 | $700. $14,875.
(4)—in paragraph (4) | $1,700 | $1,875.
(5)—in paragraph (5) | $1,325 $12,575 | $1,475. $13,950.
(6)—in paragraph (6) | $2,525 | $2,800.
(7)—in paragraph (8) | $13,400 | $14,875.
(8)—in paragraph (11)(D) | $25,150 | $27,900.
Section 522(f)(3)—exception to lien avoidance under certain state laws | $6,825 | $7,575.
Section 522(f)(4)—items excluded from definition of household goods for lien avoidance purposes | $725 (each time it appears) | $800 (each time it appears).
Section 522(n)—maximum aggregate value of assets in individual retirement accounts exempted | $1,362,800 | $1,512,350.
Section 522(p)—state homestead exemption, limit for interest acquired 1215 days before filing | $170,350 | $189,050.
Section 522(q)—state homestead exemption, limit under particular circumstances | $170,350 | $189,050.
Section 523(a)(2)(C)—exceptions to discharge—presumption of nondischargeability:
(1)—in paragraph (i)(I)—consumer debts for luxury goods or services incurred ≤90 days before filing owed to a single creditor in the aggregate | $725 | $800.
(2)—in paragraph (i)(II)—certain cash advances obtained ≤70 days before filing, in the aggregate | $1,000 | $1,100.
Section 541(b)—certain property of the estate exclusion limits | $6,825 (each time it appears) | $7,575 (each time it appears).
Section 547(c)(9)—minimum preference avoidance value in cases with primarily non-consumer debts | $6,825 | $7,575.
Section 707(b)—dismissal of a chapter 7 case or conversion to chapter 11 or 13 (means test):
(1)—in paragraph (2)(A)(i)(I) | $8,175 | $9,075.
(2)—in paragraph (2)(A)(i)(II) | $13,650 | $15,150.
(3)—in paragraph (2)(A)(ii)(IV) | $2,050 | $2,275.
(4)—in paragraph (2)(B)(iv)(I) | $8,175 | $9,075.
(5)—in paragraph (2)(B)(iv)(II) | $13,650 | $15,150.
(6)—in paragraph (5)(B) | $1,375 | $1,525.
(7)—in paragraph (6)(C) | $750 | $825.
(8)—in paragraph (7)(A)(iii) | $750 | $825.
Section 1322(d)—length of chapter 13 plan, current monthly income, 4+ household | $750 (each time it appears) | $825 (each time it appears).
Section 1325(b)—confirmation of chapter 13 plan, current monthly income, 4+ household | $750 (each time it appears) | $825 (each time it appears).
Section 1326(b)(3)—payments to former chapter 7 trustee | $25 | $25.
¹ The New (Adjusted) Dollar Amounts reflect a 10.97347880254584 percent increase, rounded to the nearest $25.

[FR Doc. 2022-02299 Filed 2-3-22; 8:45 am]

BILLING CODE 2210-55-P